DEPARTMENT OF LABOR

Employment and Training Administration

[TA-W-59,465]

Saint Gobain Crystals, Solon, OH; Notice of Negative Determination on Reconsideration

By application dated July 7, 2006, the International Chemical Workers Union Council, Local 852C, (Union), requested administrative reconsideration of the Department's Notice of Negative Determination Regarding Eligibility to Apply for Worker Adjustment Assistance, applicable to workers and former workers of the subject firm. The Department's Notice of Affirmative Determination Regarding Application for Reconsideration was issued on August 4, 2006. The Notice was published in the Federal Register on October 4, 2006 (71 FR 58632).

In the request for reconsideration, the Union alleges that the Department's initial investigation did not include all of the articles produced at the subject firm. The determination states that the subject worker group produces calcium fluoride crystals.

Based on a careful review of previously-submitted documents, the Department determines on reconsideration that during the relevant period (May 2005 through May 2006), the subject workers produced more than one line of crystals and are not separately identifiable by product line.

During the reconsideration investigation, the Union asserted that cadmium, calcium fluoride, magnesium fluoride, lithium fluoride, and barium fluoride products were produced by the subject firm (August 17, 2006 letter) and that workers produced cadmium tungstate until “Saint Gobain Crystals made the decision to transfer this operation to India” (September 14, 2006 letter).

According to a company official, calcium fluoride has been the only product produced in significant volume at the subject facility since April 2005. Calcium fluoride constitutes about 90% of subject facility production. The remaining percentage of production at the subject facility during the relevant period consisted of magnesium fluoride, lithium fluoride, barium fluoride, lead chlorine, lead bromide and cadmium tungstate.

The company official also stated that cadmium tungstate production ceased in May 2005 and was shifted to India. The shift was completed in November 2005. When the cadmium tungstate production ceased, workers were shifted to other crystal lines, including the calcium fluoride line. Cadmium tungstate sales were a minuscule fraction (less than 0.24%) of calcium fluoride sales.

Production of the remaining products (magnesium fluoride, lithium fluoride, barium fluoride, lead chlorine, lead bromide, and calcium fluoride) ceased at the end of September 2006 and the subject facility will be completely closed by the end of 2006.

The Department has determined that the predominant cause of worker separations at the subject facility is not related to increased imports or a shift of production abroad. The subject facility's customers were foreign entities and all sales were shipped abroad. Furthermore, the subject firm is leaving the calcium fluoride crystal business due to insufficient demand for the product due to lack of progress in targeted markets and technological developments.

In order for the Department to issue a certification of eligibility to apply for Alternative Trade Adjustment Assistance (ATAA), the subject worker group must be certified eligible to apply for Trade Adjustment Assistance (TAA). Since the subject workers are denied eligibility to apply for TAA, the workers cannot be certified eligible for ATAA.

Conclusion

After careful reconsideration, I affirm the original notice of negative determination of eligibility to apply for worker adjustment assistance for workers and former workers of Saint Gobain Crystals, Solon, Ohio.

Signed at Washington, DC this 6th day of December 2006.
Elliott S. Kushner,
Certifying Officer, Division of Trade Adjustment Assistance.

[FR Doc. E6-21105 Filed 12-11-06; 8:45 am]

BILLING CODE 4510-30-P